DEPARTMENT OF HOMELAND SECURITY

Coast Guard

[Docket No. USCG-2016-0369]

Great Lakes Pilotage Advisory Committee

AGENCY: Coast Guard, Department of Homeland Security.

ACTION: Notice of Federal Advisory Committee meeting.

SUMMARY: The Great Lakes Pilotage Advisory Committee will meet in Detroit, Michigan to discuss committee matters relating to Great Lakes pilotage, including the review of proposed regulations and policies. This meeting is open to the public.

DATES: The Great Lakes Pilotage Advisory Committee will meet on Tuesday, June 14, 2016 from 9:00 a.m. to 5:00 p.m. Please note that this meeting may close early if the committee completes its business.

ADDRESSES: The meeting will be held at the Detroit Metro Airport Marriott, Dearborn Room, 30559 Flynn Drive, Romulus, MI, 48174. The telephone number for the hotel is 734-729-7555 and the Web site is: http://www.marriott.com/hotels/travel/dtwrm-detroit-metro-airport-marriott/. For additional information on the location or to request reasonable accommodations for the meeting, contact the person listed in FOR FURTHER INFORMATION CONTACT below as soon as possible.

Instructions: To facilitate public participation, written comments on the issues in the “Agenda” section below must be submitted no later than June 3, 2016 if you want committee members to review your comment prior to the meeting. You must include “Department of Homeland Security” and the docket number (USCG-2016-0369). Written comments may also be submitted using Federal eRulemaking Portal: http://www.regulations.gov. For technical difficulties, contact Ms. Michelle Birchfield. Comments received will be posted without alteration at http://www.regulations.gov including any personal information provided. You may review a Privacy Act notice regarding the Federal Docket Management System in the March 24, 2005, issue of the Federal Register (70 FR 15086).

Docket Search: For access to the docket to read documents or comments related to this notice, go to http://www.regulations.gov, and use “USCG-2016-0369” in the “Search” box, press Enter, and then click on the item you wish to view.

FOR FURTHER INFORMATION CONTACT: Commandant (CG-WWM-2), ATTN: Ms. Michelle Birchfield, Great Lakes Pilotage Advisory Committee Alternate Designated Federal Officer, U.S. Coast Guard Stop 7509, 2703 Martin Luther King Jr. Avenue SE., Washington, DC 20593-7509; telephone 202-372-1537, fax 202-372-8387, or email at Michelle.R.Birchfield@uscg.mil.

SUPPLEMENTARY INFORMATION: Notice of this meeting is in compliance with the Federal Advisory Committee Act, (Title 5, U.S.C. Appendix). The Great Lakes Pilotage Advisory Committee, established under the authority of 46 U.S.C. 9307, makes recommendations to the Secretary of Homeland Security and the Coast Guard on matters relating to Great Lakes pilotage, including the review of proposed Great Lakes pilotage regulations and policies.

Further information about the Great Lakes Pilotage Advisory Committee is available here: https://www.facadatabase.gov. Click on the search tab and type “Great Lakes” into the search form. Then select “Great Lakes Pilotage Advisory Committee” from the list. A copy of all meeting materials will be made available at https://www.uscg.mil/hq/cg5/cg552/pilotage.asp by June 8, 2016.

Agenda: The Great Lakes Pilotage Advisory Committee will meet on Tuesday, June 14, 2016 to review, discuss, deliberate and formulate recommendations, as appropriate, on the following topics:

(1) Rulemaking

(a) Regulatory process presentation

(b) Status of 2016 and 2017 rulemaking

(c) Weighting factors

(d) Pilot compensation

(i) Reliable Data

(ii) Differences between projected and actual revenues

(e) Uniform accounting system

(f) Multi-year rates and a COLA

(g) Mediated rulemaking

(2) Staffing model

(3) Applicant pilot requirements

(a) Articulated tug/tow as equivalent experience

(b) Applicant compensation

(c) Applicant training

(4) Reports on association infrastructure improvements

(5) Great Lakes Pilotage Office location discussion

(6) Establishing new subcommittees

(a) Pool Certification

(b) Change point review

Public comments or questions will be taken throughout the meeting as the committee discusses the issues and prior to deliberations and voting. There will also be a public comment period at the end of the meeting. Speakers are requested to limit their comments to 5 minutes. Please note that the public comment period may end before the period allotted, following the last call for comments. Contact the individual listed in the FOR FURTHER INFORMATION CONTACT section above to register as a speaker.

D.C. Barata,
Captain, U.S. Coast Guard, Acting Director, Marine Transportation Systems.

[FR Doc. 2016-12153 Filed 5-23-16; 8:45 am]

BILLING CODE 9110-04-P